DEPARTMENT OF HOUSING AND URBAN DEVELOPMENT

24 CFR Part 970

[Docket No. FR-4598-C-03]

RIN 2577-AC20

Demolition or Disposition of Public Housing Projects; Correction

AGENCY: Office of the Assistant Secretary for Public and Indian Housing, HUD.

ACTION: Correcting amendments.

SUMMARY: On October 24, 2006, HUD published a final rule revising the agency's regulations on demolition or disposition of public housing projects. This publication corrects certain typographical and other non-substantive errors that occurred in the final rule.

DATES: Effective Date: January 23, 2008. Applicability Date: November 24, 2006.

FOR FURTHER INFORMATION CONTACT: Ainars Rodins, Director, Public and Indian Housing Special Application Center, Department of Housing and Urban Development, Ralph H. Metcalfe Federal Building, 77 West Jackson Boulevard, Room 2401, Chicago, IL 60604-3507; telephone: (312) 353-6236 (this is not a toll-free number). Persons with hearing or speech impairments may access that number toll-free through TTY by calling the Federal Relay Service at (800) 877-8339.

SUPPLEMENTARY INFORMATION:

I. Background

On October 24, 2006 (71 FR 62354), HUD published a final rule revising the Department's regulations governing demolition or disposition of public housing projects. This final rule followed a December 15, 2004 (69 FR 75188), proposed rule. The final rule became effective on November 24, 2006. These HUD regulations implement section 18 of the United States Housing Act of 1937 (42 U.S.C. 1437p) (1937 Act), and are codified at 24 CFR part 970.

A. Technical Corrections

After publication, it came to HUD's attention that certain typographical and technical errors had occurred in items in the regulatory text.

• 24 CFR 970.3(b)(4) (71 FR 62362). The phrase “incident to the normal operation * * *” found in this section should have read “incidental to the normal operation. * * *” This grammatical correction does not change the meaning or function of the paragraph and is a technical correction.

• 24 CFR 970.3(b)(13) (71 FR 62363). Section 970.3(b)(13) refers to environmental review provisions, including the provisions at § 970.7(a)(16). The environmental provision is in paragraph (15), not paragraph (16), and therefore the intended reference should have been to § 970.7(a)(15). Section 970.7(a)(16) relates to civil rights. Because it is clear from the text that § § 970.7(a)(15) was the intended reference, this rule makes that technical correction.

• 24 CFR 970.9(b)(3)(vi) (71 FR 62365). Paragraph (b)(3)(vi) paragraph is out of sequence and was therefore incorrectly and inadvertently designated. This paragraph is correctly redesignated as § 970.9(b)(3)(v). This change does not alter the meaning or function of the paragraph and is a technical correction.

• 24 CFR 970.15(a) (71 FR 62367). This section makes a cross-reference to “the criteria for disapproval under 24 CFR 270.29.” There is no 24 CFR part 270. Furthermore, 24 CFR 970.29 is entitled “Criteria for disapproval of demolition or disposition applications.” The intended reference was to part 970. This reference is a typographical error and this rule corrects this error and references 24 CFR 970.29.

• 24 CFR 970.27 (71 FR 62369). This section is missing a paragraph designation. The paragraph as published in the final rule is designated as § 970.27(1). However the correct designation is § 970.27(c)(1). This appears to have been the result of a GPO error. This rule makes that technical correction.

List of Subjects in 24 CFR Part 970

Grant programs—housing and community development, Public housing, Reporting and recordkeeping requirements.

The Catalog of Federal Domestic Assistance program number for the program affected by this final rule is 14.850.

Accordingly, HUD correctly amends 24 CFR part 970 as follows:

PART 970—PUBLIC HOUSING PROGRAM—DEMOLITION OR DISPOSITION OF PUBLIC HOUSING PROJECTS

1. The authority citation for part 970 continues to read as follows:

Authority: 42 U.S.C. 1437p and 3535(d).

§ 970.3 [Amended]

2. Amend § 970.3 as follows:

a. In paragraph (b)(4), revise the phrase “incident to the normal operation” to read “incidental to the normal operation;” and

b. In paragraph (b)(13), revise the reference to “§§ 970.7(a)(16) and 970.13(b) of this part” with the reference “§§ 970.7(a)(15) and (b)(13) of this part.”

§ 970.9 [Amended]

3. In 970.9, redesignate paragraph (b)(3)(vi) as paragraph (b)(3)(v).

§ 970.15 [Amended]

4. In, § 970.15(a), revise the reference to “24 CFR 270.29” to read “24 CFR 970.29.”

§ 970.27 [Amended]

5. In § 970.27 redesignate paragraphs (b)(1) and (b)(2) as paragraphs (c)(1) and (c)(2), respectively.

Dated: January 2, 2008.
Orlando J. Cabrera,
Assistant Secretary for Public and Indian Housing.

[FR Doc. E8-1014 Filed 1-22-08; 8:45 am]

BILLING CODE 4210-67-P